INTERNATIONAL TRADE COMMISSION

[Investigation No. 731-TA-948 (Review)]

Individually Quick Frozen Red Raspberries From Chile

AGENCY: United States International Trade Commission.

ACTION: Termination of five-year review.

SUMMARY: The subject five-year review was initiated in June 2007 to determine whether revocation of the antidumping duty order on individually quick frozen red raspberries from Chile would be likely to lead to continuation or recurrence of material injury. On July 20, 2007, the Department of Commerce published notice that it was revoking the order effective July 9, 2007, “{b} ecause the domestic interested parties did not participate in this review” (72 FR 39793). Accordingly, pursuant to section 751(c) of the Tariff Act of 1930 (19 U.S.C. 1675(c)), the subject review is terminated.

EFFECTIVE DATE: July 9, 2007.

FOR FURTHER INFORMATION CONTACT: Mary Messer (202-205-3193), Office of Investigations, U.S. International Trade Commission, 500 E. Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server: (http://www.usitc.gov).

Authority: This review is being terminated under authority of title VII of the Tariff Act of 1930; this notice is published pursuant to section 207.69 of the Commission's rules (19 CFR 207.69).

Issued: July 24, 2007.
By order of the Commission.
William R. Bishop,
Acting Secretary to the Commission.

[FR Doc. E7-14554 Filed 7-27-07; 8:45 am]

BILLING CODE 7020-02-P